DEPARTMENT OF THE INTERIOR

Bureau of Land Management

[OR-092-02-1430-EU: GP2-0026; OR 55981 and OR 55502]

Realty Action; Direct Sale of Public Lands; Oregon

AGENCY: Bureau of Land Management, Interior.

ACTION: Notice of Realty Action—Direct Sale of Public Lands in Lane County, Oregon.

SUMMARY: This notice announces the availability of two small parcels of public land in Lane County, Oregon, for sale using direct sale procedures.

DATES: For a period of 45 days from the date of publication of this notice in the Federal Register, interested parties may submit comments to the Field Manager, South Valley Resource Area, Bureau of Land Management, at the address below. Objections will be reviewed by the Eugene District Manager who may sustain, vacate, or modify this realty action. In absence of any objections, this realty action will become the final determination of the Department of the Interior.

ADDRESSES: Detailed information concerning the sale, including the reservations, sale procedures and conditions, rehabilitation plan, planning and environmental documents, is available at the Eugene District Office, PO Box 10226 (2890 Chad Drive), Eugene, Oregon 97440.

FOR FURTHER INFORMATION CONTACT: Steve Madsen, Realty Specialist, Eugene District Office, at (541) 683-6948.

SUPPLEMENTARY INFORMATION: The following land is suitable for direct sale under Sections 203 and 209 of the Federal Land Policy and Management Act of 1976, (43 U.S.C. 1713 and 1719), at no less than the appraised fair market value. The land will not be offered for sale until at least 60 days after publication of this notice:

Willamette Meridian, Oregon

Parcel OR 55981, appraised fair market value: $1,100.00

T. 21 S., R. 1 W.

Sec. 31: Lot 38

Containing 0.16 acre.

Parcel OR 55502, appraised fair market value: $8,000.00

T. 21 S., R. 2 W.

Sec. 1:Lot 9

Containing 0.45 acre.

The above described lands are hereby segregated from appropriation under the public land laws, including the mining laws, but not from sale under the above cited statute, for 270 days from the date of publication of this notice in the Federal Register or until title transfer is completed or the segregation is terminated by publication in the Federal Register, whichever occurs first.

These lands are difficult and uneconomic to manage as part of the public lands and are not suitable for management by another Federal agency. No significant resource values will be affected by this disposal. The sale is consistent with BLM's planning for the land involved and the public interest will be served by the sale.

Purchasers must be U.S. citizens, 18 years of age or older, a state or state instrumentality authorized to hold property, or a corporation authorized to own real estate in the state in which the land is located.

Parcel OR 55981 is being offered to Tony and Sonya Bratton and Parcel OR 55502 is being offered to James L. Bean using the direct sale procedures authorized under 43 CFR 2711.3-3. Direct sale is appropriate since the land, in both cases, has been inadvertently occupied and utilized for many years as portions of residential yards, including buildings. Direct sale will resolve the unauthorized use while preserving the occupants' equity in the property.

The terms, conditions, and reservations applicable to the sale of both parcels are as follows:

1. A right-of-way for ditches and canals will be reserved to the United States under 43 U.S.C. 945.

2. The mineral interests being offered for conveyance have no known mineral value. The acceptance of a direct sale offer will constitute an application for conveyance of the mineral estate in accordance with section 209 of the Federal Land Policy and Management Act. Direct purchasers must submit a non-refundable $50.00 filing fee for the conveyance of the mineral estate upon request by the Bureau of Land Management.

3. Patent will be issued subject to all valid existing rights and reservations of record.

4. Parcel OR 55502 will not be offered for sale until the purchaser has completed and the Authorized Officer has accepted and approved the restoration of riparian vegetation on public land adjacent to the sale parcel. Restoration of the lands damaged without authorization will be at the expense of the purchaser and in accordance with the rehabilitation plan developed by the Bureau of Land Management.

Dated: December 26, 2001.
Steven Calish,
Field Manager, South Valley Resource Area.

[FR Doc. 02-1379 Filed 1-18-02; 8:45 am]

BILLING CODE 4310-33-U